DEPARTMENT OF THE INTERIOR

National Park Service

[NPS-PWR-PWRO-19326; PXPD004214G001]

Record of Decision for the Channel Islands National Park General Management Plan/Wilderness Study, Santa Barbara County, California

AGENCY: National Park Service, Interior.

ACTION: Notice of availability.

SUMMARY: The National Park Service (NPS) has prepared and approved a Record of Decision for the Final Environmental Impact Statement (EIS) and General Management Plan/Wilderness Study (GMP/WS) for Channel Islands National Park. Approval of the GMP/WS culminates an extensive public engagement and environmental impact analysis effort that began in 2001.

ADDRESSES: Those wishing to review the Record of Decision may obtain a copy by submitting their request to the Superintendent, Channel Islands National Park, 1901 Spinnaker Drive, Ventura, CA 93001.

FOR FURTHER INFORMATION CONTACT: Russell Galipeau, Superintendent, telephone (805) 508-5702 or email chis_superintendent@nps.gov.

SUPPLEMENTARY INFORMATION: This process was conducted pursuant to the National Environmental Policy Act of 1969 (42 U.S.C. 4321 et seq.) and the regulations promulgated by the Council on Environmental Quality (40 CFR part 1505.2). The original Notice of Intent (NOI) initiating the conservation planning and environmental impact analysis process appeared in the Federal Register on November 8, 2001 (66 FR 56575, column 1)—a revised NOI expanding GMP scope to include a wilderness study was published April 8, 2009 (74 FR 16006, column 2). Based on information obtained from extensive public outreach, three alternatives were developed. The NPS consulted with park partners; traditionally associated American Indian tribes and groups; the State Historic Preservation Officer; and other federal and state agencies. The Draft EIS was released on November 14, 2013 (78 FR 68469, column 2), for an extended 90-day review and comment period. Two public meetings were conducted to share information and gather feedback, one of which also included a public hearing on the wilderness study. Overall 1,620 pieces of correspondence were received during the public review period. The Final EIS was released on April 17, 2015. The legally required 30-day “wait period” was initiated on April 17, 2015, with the Environmental Protection Agency's Federal Register publication of filing of the Final EIS.

The NPS evaluated the environmental consequences of two action alternatives and a no-action alternative. These alternatives described varying means to provide appropriate types and levels of access for visitors and authorized users, preserve wilderness character, protect cultural and natural resources, and adhere to legally required management and preservation objectives. Alternative 3 (agency-preferred) has been selected for implementation. This is also the environmentally-preferred course of action, which emphasizes resource stewardship and preservation while also placing more attention on expanding education and recreational opportunities and accommodations to provide diverse visitor experiences on the islands. Wilderness designation is proposed for 1,298 acres on Anacapa, Santa Barbara, Santa Cruz, and Santa Rosa Islands, and additionally on Santa Cruz and Santa Rosa Islands 65,278 acres are identified as potential wilderness.

For a park that includes five remote islands spanning 2,228 square miles of land and sea, the new Channel Islands National Park GMP defines a clear direction for resource preservation and visitor experience over the next 20 to 40 years. The GMP provides a framework for proactive decision making, which will allow park managers to effectively address future opportunities and problems. The approved GMP will also serve as the basis for future detailed management documents, such as five-year strategic plans and project implementation plans.

Dated: September 14, 2015.
Martha J. Lee,
Acting Regional Director, Pacific West Region.

Editorial Note: This document was received for publication by the Office of the Federal Register on April 12, 2016.

[FR Doc. 2016-08841 Filed 4-15-16; 8:45 am]

BILLING CODE 4312-FF-P